INTERNATIONAL TRADE COMMISSION

[Investigation No. 337-TA-1236]

Certain Polycrystalline Diamond Compacts and Articles Containing Same; Institution of Investigation

AGENCY: U.S. International Trade Commission.

ACTION: Notice.

SUMMARY: Notice is hereby given that a complaint was filed with the U.S. International Trade Commission on November 23, 2020, under section 337 of the Tariff Act of 1930, as amended, on behalf of US Synthetic Corporation of Orem, Utah. A supplement was filed on December 11, 2020. The complaint alleges violations of section 337 based upon the importation into the United States, the sale for importation, and the sale within the United States after importation of certain polycrystalline diamond compacts and articles containing same by reason of infringement of certain claims of U.S. Patent Nos. 9,932,274 (“the '274 Patent”); 10,508,502 (“the '502 Patent”); 9,315,881 (“the '881 Patent”); 10,507,565 (“the '565 Patent”); and 8,616,306 (“the '306 Patent”). The complaint further alleges that an industry in the United States exists as required by the applicable Federal Statute.

The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Katherine Hiner, Office of Docket Services, U.S. International Trade Commission, telephone (202) 205-1802.

SUPPLEMENTARY INFORMATION: Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on December 21, 2020, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 34, 38, and 39 of the '274 patent; claims 1, 2, 4, 8-11, 15-17, and 19-21 of the '502 patent; claims 1, 2, 4-8, and 15-17 of the '881 patent; claims 1-11, 13-15, 18-20, and 22-24 of the '565 patent; and claims 15, 20, and 21 of the '306 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “polycrystalline diamond compacts (PDC), PDC cutters, drill bits including PDC cutters, and PDC bearings and bearing elements”;

(3) For the purpose of the investigation so instituted, the following are hereby named as parties upon which this notice of investigation shall be served:

(a) The complainant is: US Synthetic Corporation, 1260 South 1600 West, Orem, UT 84058.

(b) The respondents are the following entities alleged to be in violation of section 337, and are the parties upon which the complaint is to be served:

SF Diamond Co., Ltd., No. 109, No. 10 Ave., Economic Development Zone, Zhengzhou, Henan, 450016, China

SF Diamond USA, Inc., 25519 Oakhurst Drive, Spring, TX 77386

Element Six Abrasives Holdings Ltd., 20 Carlton House Terrace, London, SW1Y 5AN, United Kingdom

Element Six Global Innovation Centre, Fermi Ave., Harwell Oxford, Didcot, Oxfordshire, OX11 0QR, United Kingdom

Element Six GmbH, Städeweg 18, 36151 Burghaun, Germany

Element Six Limited, 1 Debid Rd., Nuffield, Springs 1559, South Africa

Element Six Production (Pty) Limited, Shannon Airport, Shannon, County Clare, V14 E803, Ireland

Element Six Hard Materials (Wuxi) Co. Limited, No. 105-1, Xinjin Rd., Meicun, Wuxi New District, 214112, China

Element Six Trading (Shanghai) Co. Limited, Unit 3201, Century Link Tower 1, No. 1198 Century Ave., Pudong New District, Shanghai, 200122, China

Element Six Technologies US Corporation, 3901 Burton Drive, Santa Clara, CA 95054

Element Six US Corporation, 24900 Pitkin Road, Suite 250, Spring, TX 77386

ServSix US, 554 East 1400 South, Orem, UT 84097

Synergy Materials Technology Limited, Room 301, 3/F Kai Wong Commercial Building, 222 Queen's Road Central, Hong Kong, SAR of China

Iljin Diamond Co., Ltd. Iljin Building, 45, Mapo-daero, Mapo-gu, Seoul, KOREA, 04167, Republic of Korea

Iljin Holdings Co., Ltd., Iljin Building, 45, Mapo-daero, Mapo-gu, Seoul, KOREA, 04167, Republic of Korea

Iljin USA Inc., 15995 N Barkers Landing Rd., #310, Houston TX 77079

Iljin Europe GmbH, Kölner Str. 3, 65760 Eschborn, Germany

Iljin Japan Co., Ltd., Hamamatsucho General B/L 7F, 2-2-15, Hamamatsu-cho, Minato-ku, Tokyo, 105-0013, Japan

Iljin China Co., Ltd., 3F-C, BaoNa B/D (LP Tower), NC.25, Xianfeng St., Minhang District, Shanghai, 201103, China

Henan Jingrui New Material Technology Co., Ltd., West Side of Xingang Road, Zhengzhou City Airport, Henan, 451171, China

Zhengzhou New Asia Superhard Materials Composite Co., Ltd., No. 22, Chunlan Road, Zhengzhou, Henan, 450001, China

International Diamond Services, Inc., 283 Lockhaven Drive, Suite 300, Houston, TX 77073

CR Gems Superabrasives Co., Ltd., No. 3802 Shengang Road, Songjiang District, Shanghai 201611, China

FIDC Beijing Fortune International Diamond, Room 1010, Building 3, West International Center, No. 99 Beisanhuan West Road, Haidian District, Beijing, 100086, China

Fujian Wanlong Superhard Material Technology Co., Ltd., No. 13 Zhitai Road, Quangzhou Economic and Technology Development Zone, Fujian, 362000, China

Zhuhai Juxin Technology, No. 157, West Pinggong Road, Nanping Technology Park, Zhuhai, Guangdong Province, 519060, China

Shenzhen Haimingrun Superhard Materials Co., Ltd., 102, Building A7, Zhihui Innovation Park, Meiying (Phoenix), No. 3, Fengxing Xingye Third Road, Fuyong, Shenzhen City, Guangdong, 518128, China

(4) For the investigation so instituted, the Chief Administrative Law Judge, U.S. International Trade Commission, shall designate the presiding Administrative Law Judge.

The Office of Unfair Import Investigations will not participate as a party to this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 21, 2020.
Lisa Barton,
Secretary to the Commission.

[FR Doc. 2020-28669 Filed 12-28-20; 8:45 am]

BILLING CODE 7020-02-P